FEDERAL DEPOSIT INSURANCE CORPORATION

Sunshine Act; Notice of Agency Meeting

Pursuant to the provisions of the “Government in the Sunshine Act” (5 U.S.C. 552b), notice is hereby given that the Federal Deposit Insurance Corporation's Board of Directors will meet in open session at 10 a.m. on Wednesday, December 19, 2007, to consider the following matters:

Summary Agenda: No substantive discussion of the following items is anticipated. These matters will be resolved with a single vote unless a member of the Board of Directors requests that an item be moved to the discussion agenda.

Disposition of minutes of previous Board of Directors' meetings.

Summary reports, status reports, and reports of actions taken pursuant to authority delegated by the Board of Directors.

Memorandum and resolution re: Proposed Revisions to the FDIC's Minority and Women Outreach Program Contracting Regulation.

Memorandum and resolution re: Conforming Amendments to the FDIC Rules and Regulations Due to the Financial Services Regulatory Relief Act of 2006.

Memorandum and resolution re: Amendments to Statement of Policy on Bank Merger Transactions.

Memorandum and resolution re: Statement of Policy for section 19 of the Federal Deposit Insurance Act.

Discussion Agenda: Memorandum and resolution re: Proposed 2008 Corporate Operating Budget.

Memorandum and resolution re: Claims and Large-Bank Modernization—Notice of Proposed Rulemaking.

Memorandum and resolution re: Late Assessment Penalties

Delegations and Amendments.

The meeting will be held in the Board Room on the sixth floor of the FDIC Building located at 550 17th Street, NW., Washington, DC.

The FDIC will provide attendees with auxiliary aids (e.g., sign language interpretation) required for this meeting. Those attendees needing such assistance should call (703) 562-6067 (Voice or TTY), to make necessary arrangements.

Requests for further information concerning the meeting may be directed to Ms. Valerie J. Best, Assistant Executive Secretary of the Corporation, at (202) 898-7122.

Dated: December 12, 2007.
Federal Deposit Insurance Corporation.
Valerie J. Best
Assistant Executive Secretary.

[FR Doc. E7-24462 Filed 12-17-07; 8:45 am]

BILLING CODE 6714-01-P